ENVIRONMENTAL PROTECTION AGENCY

[EPA-HQ-OAR-2016-0094; FRL-10007-56-OMS]

Information Collection Request Submitted to OMB for Review and Approval; Comment Request; Importation of On-Highway Vehicles and Nonroad Engines, Vehicles, and Equipment (Renewal)

AGENCY: Environmental Protection Agency (EPA).

ACTION: Notice.

SUMMARY: The Environmental Protection Agency (EPA) has submitted an information collection request (ICR), Importation of On-highway Vehicles and Motorcycles and Nonroad Engines, Vehicles, and Equipment (EPA ICR Number 2583.02, OMB Control Number 2060-0717) to the Office of Management and Budget (OMB) for review and approval in accordance with the Paperwork Reduction Act. This is a proposed extension of the current ICR, which is approved through July 31, 2020. Public comments were previously requested via the Federal Register on November 18, 2019 during a 60-day comment period. This notice allows for an additional 30 days for public comments. An agency may not conduct or sponsor, and a person is not required to respond to a collection of information unless it displays a currently valid OMB control number.

DATES: Comments must be submitted on or before April 30, 2020.

ADDRESSES: Submit your comments referencing Docket ID No. EPA-HQ-OAR-2016-0094 to (1) EPA online using www.regulations.gov (our preferred method), by email to pugliese.holly@epa.gov or by mail to: EPA Docket Center, Environmental Protection Agency, Mailcode 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Holly Pugliese, Compliance Division, Office of Transportation and Air Quality, Environmental Protection Agency, 2000 Traverwood, Ann Arbor, Michigan, 48105; telephone number: 734-214-4288; fax number: 734-214-4869; email address: pugliese.holly@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Clean Air Act requires that on-highway vehicles and motorcycles, and nonroad vehicles, engines and equipment imported into the U.S. either comply with applicable emission requirements or qualify for an applicable exemption or exclusion. The Compliance Division (CD) in the EPA's Office of Air and Radiation maintains and makes available instruments to importers to help facilitate importation of products at U.S. Borders. EPA Form 3520-1 is used by importers of on-highway vehicles and motorcycles, and EPA Form 3520-21 is used by importers of nonroad vehicles, engines and equipment.

For most imports, U.S. Customs and Border Protection (CBP) regulations require that EPA Declaration Forms 3520-1 and 3520-21 be filed with CBP at the time of entry. EPA makes both forms available on our website in fillable PDF format (http://www.epa.gov/importing-vehicles-and-engines/publications-and-forms-importing-vehicles-and-engines). While EPA does not require that the forms be submitted directly to EPA, the forms are primarily used by CBP to facilitate the importation process at U.S. borders.

In 2016, CBP deployed the Automated Commercial Environment (ACE). ACE has become the primary system through which the trade community and other importers report imports and exports. Through ACE as the single point of submission, manual processes have been streamlined and automated, and paper submissions (e.g. fillable PDFs) have been significantly reduced. During the development of ACE, EPA worked with CBP to incorporate the information detailed on both EPA Declaration Forms 3520-1 and 3520-21 into ACE which effectively eliminates the forms as unique individual documents that are to be filled in and filed with CPB. Rather, importers will log into ACE and check boxes that correspond to information elements currently found on the forms. Filers using the ACE interface will also receive transaction information that will be kept by the filer. However, EPA will continue to maintain the forms on our website in fillable PDF format. Although importers are expected to use the ACE interface to submit information, the PDF versions of the form can also be submitted directly into ACE by importers.

EPA also makes available upon request EPA Form 3520-8 for on-highway vehicles. This form is used by independent commercial importers (ICIs) to request final admission of nonconforming vehicles.

Form Numbers: 3520-1, 3520-21, 3520-8.

Frequency of response: Once per entry. (One form per shipment may be used.)

Respondents/affected entities: Individual importers, or companies who import and/or manufacture on-highway vehicles and motorcycles and nonroad engines, vehicles, and equipment.

Respondent's obligation to respond: Required for any importer to legally import on-highway vehicles and motorcycles and nonroad engines, vehicles, and equipment into the U.S.

Estimated number of respondents: 14,810.

Total estimated burden: 81,985 hours (per year). Burden is defined at 5 CFR 1320.03(b).

Total estimated cost: $4,244,699 (per year), includes $0 annualized capital or operation and maintenance costs.

Changes in Estimates: The increase in burden hours results from an increase in the estimated number of forms being filed. With the deployment of the ACE system, we are now able to have a much more accurate count of the number of forms that are being filed. There is a decrease in the burden costs because the only O&M costs associated with this ICR are incurred by ICIs during the required certification process, which is covered by 2060-0104. Therefore, with the renewal of this ICR, we are zeroing out the capital and O&M costs in this ICR. The burden totals have been updated accordingly.

Courtney Kerwin,
Director, Regulatory Support Division.

[FR Doc. 2020-06634 Filed 3-30-20; 8:45 am]

BILLING CODE 6560-50-P